DEPARTMENT OF TRANSPORTATION

Federal Aviation Administration

14 CFR Part 39

[Docket No. FAA-2018-1064; Product Identifier 2018-NM-155-AD; Amendment 39-19538; AD 2018-26-07]

RIN 2120-AA64

Airworthiness Directives; Airbus SAS Airplanes

AGENCY: Federal Aviation Administration (FAA), DOT.

ACTION: Final rule; request for comments.

SUMMARY: We are adopting a new airworthiness directive (AD) for all Airbus SAS Model A350-941 and -1041 airplanes. This AD was prompted by reports of thrust reverser actuators (TRAs) jamming. This AD requires repetitive greasing of the TRAs, dispatch restrictions and maintenance procedure revisions. We are issuing this AD to address the unsafe condition on these products.

DATES: This AD becomes effective January 15, 2019.

The Director of the Federal Register approved the incorporation by reference of a certain publication listed in this AD as of January 15, 2019.

We must receive comments on this AD by February 14, 2019.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations,M-30, West Building Ground Floor, Room W12-140, 1200 New Jersey Avenue SE, Washington, DC 20590.

• Hand Delivery: U.S. Department of Transportation, Docket Operations,M-30, West Building Ground Floor, Room W12-140, 1200 New Jersey Avenue SE, Washington, DC 20590, between 9 a.m. and 5 p.m., Monday through Friday, except Federal holidays.

For the incorporation by reference (IBR) material described in the “Related IBR material under 1 CFR part 51” section in SUPPLEMENTARY INFORMATION, contact European Aviation Safety Agency (EASA), Konrad-Adenauer-Ufer 3, 50668 Cologne, Germany; telephone +49 221 89990 1000; email ADs@easa.europa.eu; internet www.easa.europa.eu. You may find this IBR material on the EASA website at https://ad.easa.europa.eu. You may view this IBR material at the FAA, Transport Standards Branch, 2200 South 216th St., Des Moines, WA. For information on the availability of this material at the FAA, call 206-231-3195. It is also available in the AD docket on the internet at http://www.regulations.gov.

Examining the AD Docket

You may examine the AD docket on the internet at http://www.regulations.gov by searching for and locating Docket No. FAA-2018-1064; or in person at Docket Operations between 9 a.m. and 5 p.m., Monday through Friday, except Federal holidays. The AD docket contains this AD, the regulatory evaluation, any comments received, and other information. The street address for Docket Operations (telephone 800-647-5527) is in the ADDRESSES section. Comments will be available in the AD docket shortly after receipt.

FOR FURTHER INFORMATION CONTACT: Kathleen Arrigotti, Aerospace Engineer, International Section, Transport Standards Branch, FAA, 2200 South 216th St., Des Moines, WA 98198; telephone and fax 206-231-3218.

SUPPLEMENTARY INFORMATION:

Discussion

The EASA, which is the Technical Agent for the Member States of the European Union, has issued EASA AD 2018-0234R1, dated November 13, 2018 (“EASA AD 2018-0234R1”) (also referred to as the Mandatory Continuing Airworthiness Information, or “the MCAI”), to correct an unsafe condition for all Airbus SAS Model A350-941 and -1041 airplanes. The MCAI states:

Operators of A350 aeroplanes have reported some occurrences of TRA jamming. Further investigation results indicated that the ball bearings inside the TRA are suffering from corrosion due to lack of grease and are degrading with time.

This condition, if not corrected, could lead to an inadvertent thrust reverser sleeve deployment, possibly resulting in reduced control or performance of the aeroplane.

To address this potential unsafe condition, Airbus issued the AOT [Alert Operators Transmission A78P001-18 Revision 01] to provide instructions for repetitive TRA greasing to prevent actuator ball bearings degradation, and the MER [Major Event Revision] that incorporates temporary restrictions of the MMEL [Master Minimum Equipment List] items related to thrust reverser actuation system. The AOT also provides instructions to replace certain affected TRA, depending on condition and previously applied greasing.

For the reasons described above, this [EASA] AD requires implementation of certain dispatch restrictions. This [EASA] AD also requires repetitive greasing of each affected TRA and a one-time replacement of certain affected TRA, depending on condition.

* * * * *

This [EASA] AD is still considered to be an interim action and further AD action may follow.

Related IBR Material Under 1 CFR Part 51

EASA AD 2018-0234R1 describes procedures for repetitive greasing of the TRAs, dispatch restrictions, and maintenance procedure revisions, among other actions. This material is reasonably available because the interested parties have access to it through their normal course of business or by the means identified in the ADDRESSES section and it is publicly available through the EASA website.

FAA's Determination

This product has been approved by the aviation authority of another country, and is approved for operation in the United States. Pursuant to our bilateral agreement with the State of Design Authority, we have been notified of the unsafe condition described in the MCAI referenced above. We are issuing this AD because we evaluated all pertinent information and determined the unsafe condition exists and is likely to exist or develop on other products of the same type design.

Requirements of This AD

This AD requires accomplishing the actions specified in EASA AD 2018-0234R1 described previously, except as discussed under “Differences Between this AD and the MCAI.”

Explanation of Required Compliance Information

In the FAA's ongoing efforts to improve the efficiency of the AD process, the FAA worked with Airbus and EASA to develop a process to use certain EASA ADs as the primary source of information for compliance with requirements for corresponding FAA ADs. As a result, EASA AD 2018-0234R1 will be incorporated by reference in the FAA final rule. This AD would, therefore, require compliance with the provisions specified in EASA AD 2018-0234R1, except for any differences identified as exceptions in the regulatory text of this AD. Service information specified in EASA AD 2018-0234R1 that is required for compliance with EASA AD 2018-0234R1 will be available at http://www.regulations.gov under Docket No. FAA-2018-1064 after the FAA final rule is published.

Differences Between This AD and the MCAI

The MCAI specifies a one-time replacement of certain TRAs. We are considering requiring this replacement. However, the planned compliance time for the replacement would allow enough time to provide notice and opportunity for prior public comment on the merits of the replacement.

The MCAI specifies to revise the EASA/Airbus MMEL to change certain MMEL items. This AD refers to the operator's minimum equipment list (MEL) instead of the FAA MMEL. It is unnecessary to reference the MMEL, as operators are required in 14 CFR part 91 to have an MEL to operate with inoperable equipment and provisions for relief cannot be in an MEL without first being part of the MMEL. The intent of the provision has not changed.

In addition, there are differences between the EASA/Airbus MMEL and the FAA MMEL. The FAA MMEL is more restrictive because relief is only provided for one engine reverser, whereas the EASA/Airbus MMEL provides relief for both. Therefore, this AD requires incorporating the information specified in Figure 1 to paragraph (h)(3) of this AD into the operator's MEL.

FAA's Justification and Determination of the Effective Date

An unsafe condition exists that requires the immediate adoption of this AD without providing an opportunity for public comments prior to adoption. The FAA has found that the risk to the flying public justifies waiving notice and comment prior to adoption of this rule because jamming of the TRAs could lead to an inadvertent thrust reverser sleeve deployment, possibly resulting in reduced control or performance of the airplane. Therefore, we find good cause that notice and opportunity for prior public comment are impracticable. In addition, for the reason stated above, we find that good cause exists for making this amendment effective in less than 30 days.

Comments Invited

This AD is a final rule that involves requirements affecting flight safety, and we did not precede it by notice and opportunity for public comment. We invite you to send any written relevant data, views, or arguments about this AD. Send your comments to an address listed under the ADDRESSES section. Include “Docket No. FAA-2018-1064; Product Identifier 2018-NM-155-AD” at the beginning of your comments. We specifically invite comments on the overall regulatory, economic, environmental, and energy aspects of this AD. We will consider all comments received by the closing date and may amend this AD based on those comments.

We will post all comments we receive, without change, to http://www.regulations.gov, including any personal information you provide. We will also post a report summarizing each substantive verbal contact we receive about this AD.

Costs of Compliance

We estimate that this AD affects 11 airplanes of U.S. registry. We estimate the following costs to comply with this AD:

Estimated Costs for Required Actions
Labor cost | Parts cost | Cost per product | Cost on U.S. operators
10 work-hours × $85 per hour = $850 | $0 | $850 | $9,350

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This AD is issued in accordance with authority delegated by the Executive Director, Aircraft Certification Service, as authorized by FAA Order 8000.51C. In accordance with that order, issuance of ADs is normally a function of the Compliance and Airworthiness Division, but during this transition period, the Executive Director has delegated the authority to issue ADs applicable to transport category airplanes and associated appliances to the Director of the System Oversight Division.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2018-26-07 Airbus SAS: Amendment 39-19538; Docket No. FAA-2018-1064; Product Identifier 2018-NM-155-AD.

(a) Effective Date

This AD becomes effective January 15, 2019.

(b) Affected ADs

None.

(c) Applicability

This AD applies to all Airbus SAS Model A350-941 and -1041 airplanes, certificated in any category.

(d) Subject

Air Transport Association (ATA) of America Code 78, Engine Exhaust.

(e) Reason

This AD was prompted by reports of thrust reverser actuators (TRAs) jamming. We are issuing this AD to address jamming of the TRAs, which could lead to an inadvertent thrust reverser sleeve deployment, possibly resulting in reduced control or performance of the airplane.

(f) Compliance

Comply with this AD within the compliance times specified, unless already done.

(g) Requirements

Except as specified in paragraph (h) of this AD: Comply with all required actions and compliance times specified in, and in accordance with, European Aviation Safety Agency (EASA) AD 2018-0234R1, dated November 13, 2018 (“EASA AD 2018-0234R1”).

(h) Exceptions to EASA AD 2018-0234R1

(1) For purposes of determining compliance with the requirements of this AD: Where EASA AD 2018-0234R1 refers to its effective date, this AD requires using the effective date of this AD.

(2) Where EASA AD 2018-0234R1 refers to the master minimum equipment list (MMEL), this AD refers to the operator's minimum equipment list (MEL).

(3) Where EASA AD 2018-0234R1 refers to the flight operations transmission (FOT) for certain changes, for this AD, do not incorporate the information specified in EASA MMEL item 78-09-01B, “ENG 1(2) REVERSER MINOR FAULT message—Associated reverser considered inoperative,” and instead, incorporate the information specified in Figure 1 to paragraph (h)(3) of this AD into the operator's MEL.

(4) The replacement specified in paragraph (4) of EASA AD 2018-0234R1 is not required by this AD.

(5) The “Remarks” section of EASA AD 2018-0234R1 does not apply.

(6) Where EASA AD 2018-0234R1 refers to the “the MER,” that document is not required by this AD, and it is not applicable to U.S. operators.

(i) No Reporting Requirement

Although the service information referenced in EASA AD 2018-0234R1, specifies to submit certain information to the manufacturer, this AD does not include that requirement.

(j) Other FAA AD Provisions

The following provisions also apply to this AD:

(1) Alternative Methods of Compliance (AMOCs): The Manager, International Section, Transport Standards Branch, FAA, has the authority to approve AMOCs for this AD, if requested using the procedures found in 14 CFR 39.19. In accordance with 14 CFR 39.19, send your request to your principal inspector or local Flight Standards District Office, as appropriate. If sending information directly to the International Section, send it to the attention of the person identified in paragraph (k) of this AD. Information may be emailed to: 9-ANM-116-AMOC-REQUESTS@faa.gov. Before using any approved AMOC, notify your appropriate principal inspector, or lacking a principal inspector, the manager of the local flight standards district office/certificate holding district office.

(2) Contacting the Manufacturer: For any requirement in this AD to obtain instructions from a manufacturer, the instructions must be accomplished using a method approved by the Manager, International Section, Transport Standards Branch, FAA; or EASA; or Airbus SAS's EASA Design Organization Approval (DOA). If approved by the DOA, the approval must include the DOA-authorized signature.

(3) Required for Compliance (RC): For any service information referenced in EASA AD 2018-0234R1 that contain RC procedures and tests: Except as required by paragraph (j)(2) of this AD, RC procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(k) Related Information

For more information about this AD, contact Kathleen Arrigotti, Aerospace Engineer, International Section, Transport Standards Branch, FAA, 2200 South 216th St., Des Moines, WA 98198; telephone and fax 206-231-3218.

(l) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) European Aviation Safety Agency (EASA) AD 2018-0234R1, dated November 13, 2018.

(ii) [Reserved]

(3) For information about EASA AD 2018-0234R1, contact EASA, Konrad-Adenauer-Ufer 3, 50668 Cologne, Germany; telephone +49 221 89990 6017; email ADs@easa.europa.eu; internet www.easa.europa.eu. You may find this EASA AD on the EASA website at https://ad.easa.europa.eu.

(4) You may view this EASA AD at the FAA, Transport Standards Branch, 2200 South 216th St., Des Moines, WA. For information on the availability of this material at the FAA, call 206-231-3195. EASA AD 2018-0234R1 may be found in the AD docket on the internet at http://www.regulations.gov by searching for and locating Docket No. FAA-2018-1064.

(5) You may view this service information that is incorporated by reference at the National Archives and Records Administration (NARA). For information on the availability of this material at NARA, call 202-741-6030, or go to: http://www.archives.gov/federal-register/cfr/ibr-locations.html.

Issued in Des Moines, Washington, on December 21, 2018.
Jeffrey E. Duven,
Director, System Oversight Division, Aircraft Certification Service.

[FR Doc. 2018-28418 Filed 12-28-18; 8:45 am]

BILLING CODE 4910-13-P